DEPARTMENT OF VETERANS AFFAIRS

[OMB Control No. 2900-0876]

Agency Information Collection Activity Under OMB Review: Clearance for A-11 Section 280 Improving Customer Experience Information Collection

AGENCY: Veterans Experience Office, Department of Veterans Affairs.

ACTION: Notice.

SUMMARY: In compliance with the Paperwork Reduction Act (PRA) of 1995, this notice announces that the Veterans Experience Office, Department of Veterans Affairs, will submit the collection of information abstracted below to the Office of Management and Budget (OMB) for review and comment. The PRA submission describes the nature of the information collection and its expected cost and burden, and it includes the actual data collection instrument.

DATES: Comments and recommendations for the proposed information collection should be sent by December 26, 2025.

ADDRESSES: To submit comments and recommendations for the proposed information collection, please type the following link into your browser: www.reginfo.gov/public/do/PRAMain, select “Currently under Review—Open for Public Comments”, then search the list for the information collection by Title or “OMB Control No. 2900-0876.”

FOR FURTHER INFORMATION CONTACT: VA PRA information: Dorothy Glasgow, 202-461-1084, VAPRA@va.gov.

SUPPLEMENTARY INFORMATION:

Title: Clearance for A-11 Section 280 Improving Customer Experience Information Collection.

OMB Control Number: 2900-0876 https://www.reginfo.gov/public/do/PRASearch.

Type of Review: ICR Revision.

Abstract: This ICR Revision seeks to extend the expiration date that currently expires in February 2026, and increase the burden hours associated with the Department of Veterans Affairs customer experience data collection system from 344,083 to 504,982, and the number of responses from 4,012,000 to 5,942,778. VA, when it last revised Clearance for A-11 Section 280 Improving Customer Experience Information Collection, calculated total the burden needed based on the number of Customer Satisfaction surveys under management (141 in calendar year 2022) and our informed estimate of growth in number of surveys under management. As a result of unexpectedly strong and robust need (and corresponding requests) for new customer experience surveys by VA customers (stakeholders and partners), VA has already reached 176 surveys under management and anticipate reaching 200 by the end of Fiscal Year 2027. This anticipated growth and per our models for growth from now until our current ICR expires in February 2025, directly translates into a corresponding need for an increase in associated burden hours from 344,083 to 504,982, and the number of responses from 4,012,000 to 5,942,778, to accommodate the current and future demand.

General Background on Our Customer Experience Data Collection Listening Tools

Whether seeking a loan, Social Security benefits, Veterans benefits, or other services provided by the Federal Government, individuals and businesses expect Government customer services to be efficient and intuitive, just like services from leading private-sector organizations. Yet according to research, government services continue to lag behind the private sector in customer satisfaction and experience quality. A modern, streamlined and responsive customer experience means: Raising government-wide customer experience to the average of the private sector service industry; developing indicators for high-impact Federal programs to monitor progress towards excellent customer experience and mature digital services; and providing the structure (including increasing transparency) and resources to ensure customer experience is a focal point for agency leadership. To support this, OMB Circular A-11 Section 280 established government-wide standards for mature customer experience organizations in government and measurement. To enable Federal programs to deliver the experience taxpayers deserve, they must undertake three general categories of activities: Conduct ongoing customer research, gather and share customer feedback, and test services and digital products.

These data collection efforts may be either qualitative or quantitative in nature or may consist of mixed methods. Additionally, data may be collected via a variety of means, including but not limited to electronic or social media, direct or indirect observation (i.e., in person, video and audio collections), interviews, questionnaires, surveys, and focus groups. Veterans Experience Office will limit its inquiries to data collections that solicit strictly voluntary opinions or responses. Steps will be taken to ensure anonymity of respondents in each activity covered by this request.

The results of the data collected will be used to improve the delivery of Federal services and programs. It will include the creation of personas, customer journey maps, reports and summaries of customer feedback data and user insights. The Veterans Experience Office will collect this information by electronic means, when possible, as well as by mail, fax, telephone, technical discussions, and in-person interviews. Veterans Experience Office may also utilize observational techniques to collect this information.

Collections will be targeted at the solicitation of opinions from respondents who have experience with the program or may have experience with the program in the near future. For the purposes of this request, customers are individuals, businesses, and organizations that interact with a Federal Government agency or program, either directly or via a federal contractor. This could include individuals or households; businesses or other for-profit organizations; not-for profit institutions; State, local or tribal governments; Federal government; and Universities.

An agency may not conduct or sponsor, and a person is not required to respond to a collection of information unless it displays a currently valid OMB control number. The Federal Register Notice with a 60-day comment period soliciting comments on this collection of information was published at: 90 FR 43511, September 9, 2025.

Affected Public: Individuals or Households.

Estimated Annual Burden: 504,982.

Estimated Average Burden per Respondent: Varied, dependent upon the data collection method used. The possible response time to complete a questionnaire or survey may be 2 minutes or up to 2 hours to participate in an interview.

Frequency of Response: Varied, dependent upon the data collection method used.

Estimated Number of Respondents: 5,942,778.

(Authority: 44 U.S.C. 3501 et seq.)

Dorothy Glasgow,
Acting, VA PRA Clearance Officer,
Office of Information Technology, Data Governance Analytics Department of Veterans Affairs.

[FR Doc. 2025-20805 Filed 11-24-25; 8:45 a.m.]

BILLING CODE 8320-01-P